DEPARTMENT OF HOMELAND SECURITY

[Docket No. DHS-2024-0018]

Faith-Based Security Advisory Council

AGENCY: Office of Partnership and Engagement (OPE), The Department of Homeland Security (DHS).

ACTION: Notice of open Federal advisory committee meeting.

SUMMARY: The Faith-Based Security Advisory Council (FBSAC) will hold a hybrid meeting (both in-person and virtual) on Monday, June 24, 2024. The meeting will be open to the public.

DATES: The meeting will take place from 3 p.m. ET to 4:30 p.m. ET on Monday, June 24, 2024. Please note that the meeting may end early if the Council has completed its business.

ADDRESSES: The FBSAC meeting will be held virtually and in-person at DHS Headquarters. Members of the public interested in participating may do so by following the process outlined below (see “Public Participation”). Written comments can be submitted from June 14, 2024, to June 28, 2024. Comments must be identified by Docket No. DHS-2024-0018 and may be submitted by one of the following methods:

• Federal eRulemaking Portal: http://www.regulations.gov. Follow the instructions for submitting comments.

• Email: FBSAC@hq.dhs.gov. Include Docket No. DHS-2024-0018 in the subject line of the message.

• Mail: Susan Schneider, Alternate Designated Federal Officer of Faith-Based Security Advisory Council, Office of Partnership and Engagement, Mailstop 0385, Department of Homeland Security, 2707 Martin Luther King Jr Ave SE, Washington, DC 20528.

Instructions: All submissions received must include the words “Department of Homeland Security” and “DHS-2024-0018,” the docket number for this action. Comments received will be posted without alteration at http://www.regulations.gov, including any personal information provided. You may wish to review the Privacy and Security Notice found via a link on the homepage of http://www.regulations.gov.

Docket: For access to the docket to read comments received by the Council, go to http://www.regulations.gov, search “DHS-2024-0018,” “Open Docket Folder” and provide your comments.

FOR FURTHER INFORMATION CONTACT: Susan Schneider, Alternate Designated Federal Officer, Faith-Based Security Advisory Council, Office of Partnership and Engagement, U.S. Department of Homeland Security at FBSAC@hq.dhs.gov or 771-233-5755.

SUPPLEMENTARY INFORMATION: Notice of this meeting is given under section 10(a) of the Federal Advisory Committee Act (FACA), Public Law 92-463 (5 U.S.C. ch. 10), which requires each FACA committee meeting to be open to the public unless the President, or the head of the agency to which the advisory committee reports, determines that a portion of the meeting may be closed to the public in accordance with 5 U.S.C. 552b(c).

The FBSAC provides organizationally independent, strategic, timely, specific, and actionable advice to the Secretary through the OPE Assistant Secretary, who serves as the DHS Faith-Based Organizations Security Coordinator on security and preparedness matters related to places of worship, faith communities, and faith-based organizations. The Council consists of members who are: faith-based organization security officials; faith-based organization leaders; faith leaders; State and local public safety, law enforcement, and emergency management leaders.

The agenda for the meeting is as follows:(1) remarks from senior DHS leaders and (2) briefings, public comment, member deliberation, and voting on the three draft reports from the Combatting Online Child Sexual Exploitation and Abuse, Countering and Responding to Targeted Violence and Terrorism, and Countering Transnational Repression Subcommittees. The FBSAC was tasked to create these three subcommittees on January 5, 2024. The taskings can be found on the FBSAC website at https://www.dhs.gov/faith-based-security-advisory-council. The meeting will adjourn at 4:30 p.m. ET.

Members of the public will be in listen-only mode except during the public comment session. Members of the public may register to participate in this Council via teleconference or in person via the following procedures. Each individual must provide their full legal name and email address no later than 5 p.m. ET on Friday, June 21, 2024, to Susan Schneider of the Council via email to FBSAC@hq.dhs.gov or via phone at 771-233-5755. Members of the public who have registered to participate will be provided the conference call and in person details after the closing of the public registration period and prior to the start of the meeting. Please note that there will be limited public seating and it will be available on a first-come, first-served basis.

For information on services for individuals with disabilities, or to request special assistance, please email FBSAC@hq.dhs.gov by 5 p.m. ET on Thursday, June 20, 2024. The FBSAC is committed to ensuring all participants have equal access regardless of disability status. If you require a reasonable accommodation due to a disability to fully participate, please contact Susan Schneider at FBSAC@hq.dhs.gov or 771-233-5755 as soon as possible.

Dated: June 4, 2024.
Susan R. Schneider,
Alternate Designated Federal Officer, Department of Homeland Security.

[FR Doc. 2024-12560 Filed 6-6-24; 8:45 am]

BILLING CODE 9112-FN-P